DEPARTMENT OF HEALTH AND HUMAN SERVICES

Health Resources and Services Administration

Meeting of the CDC/HRSA Advisory Committee on HIV, Viral Hepatitis and STD Prevention and Treatment

AGENCY: Health Resources and Services Administration (HRSA), Department of Health and Human Services (HHS).

ACTION: Notice.

SUMMARY: In accordance with the Federal Advisory Committee Act, this notice announces that the Secretary's Centers for Disease Control and Prevention (CDC)/HRSA Advisory Committee on HIV, Viral Hepatitis and STD Prevention and Treatment (CHAC) has scheduled a public meeting. Information about CHAC and the agenda for this meeting can be found on the CHAC website at https://www.cdc.gov/maso/facm/facmCHACHSPT.html and the meeting website at https://www.chacfall2021.org/.

DATES: November 3, 2021, 12:30 p.m.-5:00 p.m. Eastern Time and November 4, 2021, 12:30 p.m.-5:00 p.m. Eastern Time.

ADDRESSES: This meeting will be held virtually by webinar. Advance registration is required to attend. Please visit the meeting website above to register. The registration deadline is Friday, October 29, 2021, at 12:00 p.m. Prior to the meeting, each individual registrant will receive a registration confirmation along with an access link to the virtual meeting location.

• Meeting website link: https://www.chacfall2021.org/.

FOR FURTHER INFORMATION CONTACT: Theresa Jumento, Senior Public Health Advisor, HIV/AIDS Bureau, HRSA, (301) 443-5807; or tjumento@hrsa.gov.

SUPPLEMENTARY INFORMATION: CHAC provides advice and recommendations to the Secretary of HHS (Secretary) on policy, program development, and other matters of significance concerning the activities under Section 222 of the Public Health Service (PHS) Act, 42 U.S.C. 217a.

The purpose of CHAC is to advise the Secretary of HHS, the Director of CDC, and the HRSA Administrator regarding objectives, strategies, policies, and priorities for HIV, viral hepatitis, and other STDs; prevention and treatment efforts, including surveillance of HIV infection, viral hepatitis, and other STDs, and related behaviors; epidemiologic, behavioral, health services, and laboratory research on HIV, viral hepatitis, and other STDs; identification of policy issues related to HIV/viral hepatitis/STD professional education, patient health care delivery, and prevention services; agency policies about prevention of HIV, viral hepatitis and other STDs; treatment, health care delivery, and research and training; strategic issues influencing the ability of CDC and HRSA to fulfill their missions of providing prevention and treatment services; programmatic efforts to prevent and treat HIV, viral hepatitis, and other STDs; and support to the CDC and HRSA in their developoment of responses to emerging health needs related to HIV, viral hepatitis, and other STDs.

During the November 3-4, 2021 meeting, CHAC will discuss issues related to engagement in care among people living with HIV using telemedicine; improving STI screenings in people with HIV through the Ryan White HIV/AIDS program; providing housing services at the intersection of substance use disorder, mental health and HIV; and patient centered, integrated care with emphasis on quality of life and emotional well-being, along with issues related to pending committee reports. Agenda items are subject to change as priorities dictate. Refer to the CHAC meeting information page for any updated information concerning the meeting.

Members of the public will have the opportunity to provide comments. Public participants may also submit written statements as further described below. Oral comments will be honored in the order they are requested and may be limited as time allows. Requests to submit a written statement or make oral comments to CHAC should be sent via the meeting website at https://www.chacfall2021.org/ by Friday, October 29, 2021, at 5:00 p.m. Visit the meeting information page for additional details at https://www.chacfall2021.org/.

Individuals who plan to attend and need special assistance or another reasonable accommodation should notify Theresa Jumento at the email address and/or phone number listed above at least 10 business days prior to the meeting.

Maria G. Button,
Director, Executive Secretariat.

[FR Doc. 2021-20646 Filed 9-23-21; 8:45 am]

BILLING CODE 4165-15-P